NATIONAL AERONAUTICS AND SPACE ADMINISTRATION

[Notice (02-038)]

NASA Advisory Council, Aerospace Technology Advisory Committee, Aviation Safety Reporting System Subcommittee; Meeting

AGENCY: National Aeronautics and Space Administration.

ACTION: Notice of meeting.

SUMMARY: In accordance with the Federal Advisory Committee Act, Public Law 92-463, as amended, the National Aeronautics and Space Administration announces a NASA Advisory Council, Aerospace Technology Advisory Committee, Aviation Safety Reporting System Subcommittee (ASRSS) meeting.

DATES: Tuesday, April 9, 2002, 9 a.m. to 5 p.m.; and Wednesday, April 10, 2002, 9 a.m. to 5 p.m.

ADDRESSES: National Aeronautics and Space Administration, Ames Research Center, Building 262, Room 100, Moffett Field, CA 94035.

FOR FURTHER INFORMATION CONTACT: Ms. Linda Connell, National Aeronautics and Space Administration, Ames Research Center, Moffett Field, CA 94035, 650/960-6059.

SUPPLEMENTARY INFORMATION: The meeting will be open to the public up to the seating capacity of the room. Special security arrangements must be made through Ms. Connell one week prior to the meeting. Agenda topics for the meeting are as follows:

—Report on Aviation Safety Reporting System

—New Emerging Safety Issues

—NASA Future Flight Central

It is imperative that the meeting be held on these dates to accommodate the scheduling priorities of the key participants. Visitors will be requested to sign a visitors register.

Sylvia K. Kraemer,
Advisory Committee Management Officer, National Aeronautics and Space Administration.

[FR Doc. 02-6496 Filed 3-18-02; 8:45 am]

BILLING CODE 7510-01-P